DEPARTMENT OF THE INTERIOR

Bureau of Land Management

[CO-100-1610 DQ]

Notice of Availability for the Little Snake Proposed Resource Management Plan and Final Environmental Impact Statement, Colorado

AGENCY: Bureau of Land Management, Interior.

ACTION: Notice of availability.

SUMMARY: In accordance with the National Environmental Policy Act of 1969 and the Federal Land Policy and Management Act of 1976, the Bureau of Land Management (BLM) has prepared a Proposed Resource Management Plan (RMP)/Final Environmental Impact Statement (EIS) for the Little Snake Field Office.

DATES: The BLM planning regulations (43 CFR 1610.5-2) provide that any person who meets the conditions as described in the regulations may protest the BLM's Proposed RMP. A person who meets the conditions and files a protest must file the protest within 30 days of the date that the Environmental Protection Agency publishes its Notice in the Federal Register.

ADDRESSES: Copies of the Little Snake Proposed RMP/Final EIS have been sent to affected Federal, State, and local government agencies and to interested parties. Copies of the Proposed RMP/Final EIS are also available for public inspection at the following locations:

1. Bureau of Land Management, Colorado State Office, 2850 Youngfield Street, Lakewood, Colorado 80215.

2. Bureau of Land Management, Little Snake Field Office, 455 Emerson Street, Craig, Colorado 81625.

Interested persons may also review the Proposed RMP/Final EIS at the following Web site: http://www.blm.gov/co/st/en/fo/lsfo/plans/rmp_revision.html. Upon request, additional copies in limited numbers of both paper and digital formats are available.

All protests must be in writing and mailed to the following addresses:

Regular mail: | Overnight mail:
BLM Director (210), Attention: Brenda Williams, P.O. Box 66538, Washington, DC 20035 | BLM Director (210), Attention: Brenda Williams, 1620 L Street, NW., Suite 1075, Washington, DC 20036.

FOR FURTHER INFORMATION CONTACT: Jeremy Casterson, RMP Project Manager, 455 Emerson Street, Craig, Colorado 81625, 970-826-5071, Jeremy_Casterson@blm.gov.

SUPPLEMENTARY INFORMATION: The planning area is located in Northwest Colorado in Moffat, Routt, and Rio Blanco counties. The plan will provide a framework to guide subsequent management decisions on approximately 1.3 million acres of BLM-administered public lands and 1.1 million acres of BLM-administered subsurface mineral estate. The Little Snake Field Office area is currently being managed under its 1989 RMP, which has been amended for Oil and Gas Leasing (1991), Black-Footed Ferret Reintroduction (1996), Land Health Standards (1997), and the Emerald Mountain Land Exchange (2007).

The Draft RMP/EIS was made available for public review for a 90-day period beginning in February 2007. After the careful review and consideration of all public comments, changes to Alternative C (the Preferred Alternative as described in the Draft RMP/EIS) have been made to clarify management direction, incorporate as appropriate management direction from other alternatives analyzed, and update the effects analysis.

The Little Snake Field Office has worked extensively with interested and affected publics and cooperating agencies in the development of the Proposed RMP/Final EIS. Cooperating agencies include: Moffat County, the Colorado Department of Natural Resources, the U.S. Fish and Wildlife Service, the City of Steamboat Springs, and the Juniper Water Conservancy District.

During the public review of the Draft RMP/EIS, the Environmental Protection Agency, in consultation with the BLM, identified areas where additional air quality information would augment the existing analysis in the Draft RMP/EIS. As a result, on December 19, 2007, the BLM published its Notice of Intent to prepare additional air quality analysis in the Federal Register. On October 10, 2008, the BLM published the Notice of Availability (NOA) in the Federal Register for Additional Air Quality Impact Assessment to support the Little Snake Draft RMP/EIS. On November 19, 2008, the BLM published a Notice of Correction to the NOA for additional air quality information in the Federal Register. The additional air quality analysis information was released to the public for review and comment. A response to these comments and all other public comments is included in the Proposed RMP/Final EIS.

The Proposed RMP/Final EIS addresses many issues important to the area, including energy development, special designations, transportation and travel management, wildlife habitat and socio-economic values. Four alternatives were analyzed in the Proposed RMP/Final EIS.

Alternative A, the No Action Alternative, would maintain present uses by continuing present management direction and activities. Commodity production and unrestricted off-highway vehicle (OHV) travel would be allowed throughout a majority of the planning area.

Alternative B would allow the greatest extent of resource use within the planning area, while maintaining the basic protection needed to sustain resources. Under this alternative, constraints on commodity production for the protection of sensitive resources would be the least restrictive within the limits defined by law, regulation, and BLM policy. Fewer areas would be limited or closed to OHV use than under the No Action Alernative.

Alternative C, the Proposed RMP, would emphasize multiple resource use in the planning area by protecting sensitive resources, including high priority sagebrush habitat, through performance-based approaches. Commodity production would be balanced with providing protection for wildlife habitat, vegetation, and natural values. More areas would be limited or closed to OHV use than under the No Action Alternative.

Alternative D would allow the greatest extent of resource protection within the planning area, while still allowing resource use. Commodity production would be constrained to protect natural resource values or to accelerate improvement in their condition. Under this alternative there would be an increase in areas closed or limited to OHV use than in Alternative C, the Proposed RMP.

In the Proposed RMP (Alternative C), Irish Canyon is designated as an Area of Critical Environmental Concern (ACEC). The ACEC objective would be to protect sensitive plants, remnant plant communities, cultural and geologic values, and scenic quality. The area would be closed to oil and gas leasing, limited to designated routes for OHVs, withdrawn from locatable mineral entry, managed as Visual Resource Management Class II, and designated as a right-of-way exclusion area unless associated with valid existing rights.

ACEC proposals that were determined to meet the relevance and importance criteria, but not designated as ACECs in the Proposed RMP because they were deemed not warranted for special management attention include: Lookout Mountain, Limestone Ridge, Cross Mountain Canyon, White-tailed Prairie Dog habitat, and 11 additional areas proposed to protect sensitive plants and plant communities (Cold Desert Shrublands occurrences, Gibben's beardtongue occurrences, Bull Canyon, G Gap, Little Juniper Canyon, the Bassett Spring, No Name Spring, Pot Creek, Whiskey Springs, Willow Spring, and Deception Creek).

Instructions for filing a protest with the Director of the BLM regarding the Proposed RMP/Final EIS may be found in the Dear Reader letter of the Little Snake Proposed RMP/Final EIS and at 43 CFR 1610.5-2. E-mail and faxed protests will not be considered as valid protests unless the protesting party also provides the original letter by either regular or overnight mail postmarked by the close of the protest period. Under these conditions, the BLM will consider the e-mail or faxed protest as an advance copy and it will receive full consideration. If you wish to provide the BLM with such advance notification, please direct faxed protests to the attention of Brenda Hudgens-Williams, BLM protest coordinator, at (202) 912-7212, and e-mails to Brenda_Hudgens-Williams@blm.gov.

All protests, including the follow-up letter (if e-mailing or faxing) must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Helen M. Hankins,
State Director.

Authority: 40 CFR 1506.6, 43 CFR 1610.2 and 1610-1.

[FR Doc. 2010-19917 Filed 8-12-10; 8:45 am]

BILLING CODE 4310-JB-P